DEPARTMENT OF THE INTERIOR

Fish and Wildlife Service

[FWS-R8-FHC-2012-N222; FXFR1334088TWG0W4-123-FF08EACT00]

Trinity Adaptive Management Working Group; Public Teleconference/Web-Based Meeting

AGENCY: Fish and Wildlife Service, Interior.

ACTION: Notice.

SUMMARY: We, the U.S. Fish and Wildlife Service, announce a public teleconference/web-based meeting of the Trinity Adaptive Management Working Group (TAMWG).

DATES: Teleconference/web-based meeting: Wednesday October 17, 2012, from 9 a.m. to 11 a.m. Pacific time. Deadlines: For deadlines and directions on registering to listen to the meeting by phone, listening and viewing on the Internet, submitting written material, or giving an oral presentation by phone, please see “Public Input” under SUPPLEMENTARY INFORMATION.

ADDRESSES: You may participate in the teleconference/web-based meeting from your home computer or phone or in person at one of the following locations:

• U.S. Fish and Wildlife, Arcata Office, 1655 Heindon Road, Arcata, CA 95521 Telephone (707) 822-7201; or

• TRRP Office, 1313 South Main Street, Weaverville, CA 96093 Telephone (530) 623-1800.

FOR FURTHER INFORMATION CONTACT: Elizabeth W. Hadley, Redding Electric Utility, 777 Cypress Avenue, Redding, CA 96001; telephone: 530-339-7327; email: ehadley@reupower.com.

SUPPLEMENTARY INFORMATION: In accordance with the requirements of the Federal Advisory Committee Act, 5 U.S.C. App., we announce that the Trinity Adaptive Management Working Group (TAMWG) will hold a teleconference/web-based meeting.

Background

The TAMWG affords stakeholders the opportunity to give policy, management, and technical input concerning Trinity River (California) restoration efforts to the Trinity Management Council (TMC). The TMC interprets and recommends policy, coordinates and reviews management actions, and provides organizational budget oversight.

Meeting Agenda

• Draft FY 13 Budget,

• Science Program,

• Overview of Peer Review Report,

• Implementation Program,

• Administration, and

• Reconsideration of September 10, 2012, TAMWG meeting issues (see Sept. 10, 2012, agenda at http://www.fws.gov/arcata for items potentially to be discussed).

The final agenda will be posted on the Internet at http://www.fws.gov/arcata.

Public Input

If you wish to | You must contact Elizabeth Hadley (FOR FURTHER INFORMATION CONTACT) no later than—
Listen to the teleconference/web-based meeting via telephone or Internet | October 10, 2012.
Give an oral presentation by phone | October 10, 2012.
Submit written information or questions for the TAMWG to consider during the teleconference | October 10, 2012.

Submitting Written Information or Questions

Interested members of the public may submit relevant information or questions for the TAMWG to consider during the teleconference. Written statements must be received by the date listed in “Public Input,” so that the information may be available to the TAMWG for their consideration prior to this teleconference. Written statements must be supplied to Elizabeth Hadley in one of the following formats: One hard copy with original signature, and one electronic copy with original signature, and one electronic copy via email (acceptable file formats are Adobe Acrobat PDF, MS Word, PowerPoint, or rich text file).

Registered speakers who wish to expand on their oral statements, or those who wished to speak but could not be accommodated on the agenda, may submit written statements to Elizabeth Hadley up to 7 days after the teleconference.

As time permits, the public may also speak after each agenda item after the chair opens the floor for comment period. No registration beyond initial meeting registration is required for this.

Meeting Minutes

Summary minutes of the teleconference will be maintained by Elizabeth Hadley (see FOR FURTHER INFORMATION CONTACT). The minutes will be available for public inspection within 90 days after the meeting, and will be posted on the TAMWG Web site at http://www.fws.gov/arcata.

Dated: September 25, 2012.
Joe Polos,
Supervisory, Fish Biologist, Arcata Fish and Wildlife Office, Arcata, California.

[FR Doc. 2012-24158 Filed 10-1-12; 8:45 am]

BILLING CODE 4310-55-P